DEPARTMENT OF TRANSPORTATION

Federal Aviation Administration

Notice of Intent To Rule on Application To Impose and Use the Revenue From a Passenger Facility Charge (PFC) at Southwest International Airport, Fort Myers, FL

AGENCY: Federal Aviation Administration (FAA), DOT.

ACTION: Notice of intent to rule on application.

SUMMARY: The FAA proposes to rule and invites public comment on the application to impose and use the revenue from a PFC at Southwest Florida Airport under the provisions of the Aviation Safety and Capacity Expansion Act of 1990 (Title IX of the Omnibus Budget Reconciliation Act of 1990) (Pub. L. 101-508) and part 158 of the Federal Aviation Regulations (14 CFR part 158).

DATES: Comments must be received on or before August 21, 2003.

ADDRESSES: Comments on this application may be mailed or delivered in triplicate to the FAA at the following address: Orlando Airports District Office, 5950 Hazeltine National Dr., Suite 400, Orlando, Florida 32822-5024.

In addition, one copy of any comments submitted to the FAA must be mailed or delivered to Ms. Debra Lemke, Senior Manager—Governmental Affairs of the Lee County Port Authority at the following address: 16000 Chamberlain Parkway, Suite 8671, Ft. Myers, Florida 33913-8899.

Air carriers and foreign air carriers may submit copies of written comments previously provided to the Lee County Port Authority under section 158.23 of part 158.

FOR FURTHER INFORMATION CONTACT: Juan C. Brown, Program Manger, Orlando Airports District Office, 5950 Hazeltine National Dr., Suite 400, Orlando, Florida 32822-5024, (407) 812-6331 ext 18. The application may be reviewed in person at this same location.

SUPPLEMENTARY INFORMATION: The FAA proposes to rule and invites public comment on the application to impose and use the revenue a PFC at Southwest Florida International Airport under the provisions of the Aviation Safety and Capacity Expansion Act of 1990 (Title IX of the Omnibus Budget Reconciliation Act of 1990) (Public Law 101-508) and part 158 of the Federal Aviation Regulations (14 CFR part 158).

On July 14, 2003, the FAA determined that the application to impose and use the revenue from a PFC submitted by Lee County Port Authority was substantially complete within the requirements of section 158.25 of part 158. The FAA will approve or disapprove the application, in whole or in part, no later than October 29, 2003.

The following is a brief overview of the application.

PFC Application No.: 03-05-C-00-RSW.

Level of the proposed PFC: $4.50.

Proposed charge effective date: March 1, 2011.

Proposed charge expiration date: April 1, 2017.

Total estimated net PFC revenue: $104,801,531.

Brief description of proposed project(s):

Design and Construction of new Midfield Terminal.

Class or classes of air carriers which the public agency has requested not be required to collect PFCs: Air Taxi/Commercial Operators (ATCO).

Any person may inspect the application in person at the FAA office listed above under FOR FURTHER INFORMATION CONTACT.

In addition, any person may, upon request, inspect the application, notice and other documents germane to the application in person at the Lee County Port authority.

Issued in Orlando, Florida on July 14, 2003.
W. Dean Stringer,
Manager, Orlando Airports District Office, Southern Region.

[FR Doc. 03-18628 Filed 7-21-03; 8:45 am]

BILLING CODE 4910-13-M